DEPARTMENT OF AGRICULTURE

Grain Inspection, Packers and Stockyards Administration

Grain Inspection Advisory Committee Reestablishment

AGENCY: Grain Inspection, Packers and Stockyards Administration, USDA.

ACTION: Notice to reestablish committee.

SUMMARY: Notice is hereby given that the Secretary of Agriculture has reestablished the Grain Inspection, Packers and Stockyards Administration's Grain Inspection Advisory Committee. The Secretary of Agriculture has determined that the Committee is necessary and in the public interest.

FOR FURTHER INFORMATION CONTACT: Terri L. Henry, Designated Federal Official, Grain Inspection, Packers and Stockyards Administration, USDA, Rm. 1647-S, 1400 Independence Ave., SW., Washington, DC 20250-3604; Telephone (202) 205-8281; Fax (202) 690-2755; E-mail Terri.L.Henry@usda.gov.

SUPPLEMENTARY INFORMATION: The purpose of the Grain Inspection Advisory Committee is to advise the Administrator of the Grain Inspection, Packers and Stockyards Administration with respect to the implementation of the United States Grain Standards Act, as amended, and the Reorganization Act of 1994. The Committee is essential to help facilitate the marketing of grain.

Dated:
Donna Reifschneider,
Administrator, Grain Inspection, Packers and Stockyards Administration.

[FR Doc. 04-21082 Filed 9-20-04; 8:45 am]

BILLING CODE 3410-EN-P